DEPARTMENT OF COMMERCE

National Institute of Standards and Technology

Proposed Information Collection; Comment Request; Malcolm Baldrige National Quality Award and Examiner Applications

AGENCY: National Institute of Standards and Technology (NIST).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before December 21, 2009.

ADDRESSES: Direct all written comments to Diana Hynek, Departmental Paperwork Clearance Officer, Department of Commerce, Room 7845, 14th and Constitution Avenue, NW., Washington, DC 20230 (or via the Internet at dHynek@doc.gov).

FOR FURTHER INFORMATION CONTACT: Requests for additional information or copies of the information collection instrument and instructions should be directed to Pamela P. Wong, Baldrige National Quality Program, Administration Building, Room 615, 100 Bureau Drive, Stop 1020, National Institute of Standards and Technology, Gaithersburg, Maryland 20899-1020; telephone (301) 975-4504, fax (301) 948-3716, e-mail pamela.wong@nist.gov.

SUPPLEMENTARY INFORMATION:

I. Abstract

The Department of Commerce is responsible for the Baldrige National Quality Program and the Malcolm Baldrige National Quality (BNQP) Award. Directly associated with this Award is the Board of Examiners, an integral part of the Baldrige National Quality Program. NIST manages the Baldrige Program. An applicant for the Malcolm Baldrige National Quality Award is required to perform two steps: (1) The applicant organization certifies that it meets eligibility requirements; and (2) the applicant organization prepares and completes an application form and the application process. The Malcolm Baldrige National Quality Award Program Office will assist with or offer advice on any questions or issues that the applicant may have concerning the eligibility process or in completing the self-certification forms. NIST will use the application package to assess and provide feedback on the applicant's quality and performance practices.

The application to be a member of the Board of Examiners is a one-step process. Each year the Award Program recruits highly skilled experts in the fields of manufacturing, service, small business, health care, education, and nonprofit, the six Award eligibility categories, to evaluate the applications that the Program receives. Examiners serve for a one-year term; participation on the board is entirely voluntary.

II. Method of Collection

Award applicants must comply in writing according to the Baldrige Award Application Forms available at http://www.baldrige.nist.gov/Award_Application.htm. The application for the 2009 Board of Examiners can be found at http://www.baldrige.nist.gov/Examiner_Application.htm. It is submitted electronically.

III. Data

OMB Control Number: 0693-0006.

Form Number: None.

Type of Review: Regular submission.

Affected Public: Business or other for-profit organizations; not-for-profit institutions; and individuals or households.

Estimated Number of Respondents: 900. (100 Applicants for the Malcolm Baldrige Award, 800 Applicants for the Board of Examiners).

Estimated Time per Response: 74 hours for Applications for the Malcolm Baldrige Quality Award, and 1 hour for the Applications for the Board of Examiners.

Estimated Total Annual Burden Hours: 8,200

Estimated Total Annual Cost to Public: $125,000 ($1,250 for each of the 100 Awardees—costs are for duplication and mailing).

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: October 27, 2009.
Gwellnar Banks,
Management Analyst, Office of the Chief Information Officer.

[FR Doc. E9-26155 Filed 10-29-09; 8:45 am]

BILLING CODE 3510-13-P